NUCLEAR REGULATORY COMMISSION

[Docket No. 40-9083; ASLBP No. 17-952-01-MLA-BD01]

U.S. Army Installation Command; Establishment of Atomic Safety and Licensing Board

Pursuant to delegation by the Commission, see 37 FR 28710 (Dec. 29, 1972), and the Commission's regulations, see, e.g., 10 CFR 2.104, 2.105, 2.300, 2.309, 2.313, 2.318, 2.321, notice is hereby given that an Atomic Safety and Licensing Board (Board) is being established to preside over the following proceeding:

U.S. Army Installation Command

(Source Materials License No. SUC-1593, Amendment 2, Davy Crockett Depleted Uranium at Various United States Army Installations)

This proceeding involves an amendment application by the U.S. Army Installation Command related to Army Source Materials License No. SUC-1593, Amendment 2, Davy Crockett Depleted Uranium at various United States Army sites. In response to a notice filed in the Federal Register, see 82 FR 10031 (Feb. 9, 2017), the following petitioners filed hearing requests: (1) Cory (Martha) Harden; (2) James Albertini; (3) Hawane Rios; and (4) Ruth Aloua.

The Board is comprised of the following Administrative Judges:

William J. Froehlich, Chairman, Atomic Safety and Licensing Board Panel, U.S. Nuclear Regulatory Commission, Washington, DC 20555-0001.

Dr. Gary S. Arnold, Atomic Safety and Licensing Board Panel, U.S. Nuclear Regulatory Commission, Washington, DC 20555-0001.

Dr. Sue H. Abreu, Atomic Safety and Licensing Board Panel, U.S. Nuclear Regulatory Commission, Washington, DC 20555-0001.

All correspondence, documents, and other materials shall be filed in accordance with the NRC E-Filing rule. See 10 CFR 2.301.

Dated: April 13, 2017.
E. Roy Hawkens,
Chief Administrative Judge, Atomic Safety and Licensing Board Panel, Rockville, Maryland.

[FR Doc. 2017-07892 Filed 4-18-17; 8:45 am]

BILLING CODE 7590-01-P